POSTAL SERVICE

39 CFR Part 111

Use of Ancillary Service Endorsement for Mailing Certain Types of Checks

AGENCY: Postal Service.

ACTION: Proposed rule; withdrawal.

SUMMARY: The Postal Service is withdrawing a proposed rule that would require ancillary service endorsements on mailpieces containing certain types of checks.

DATES: Withdrawal effective October 14, 2005.

FOR FURTHER INFORMATION CONTACT: William Chatfield, Mailing Standards, United States Postal Service, 202-268-7278.

SUPPLEMENTARY INFORMATION: In a proposed rule published in the Federal Register on October 27, 2004 (69 FR 6263), the Postal Service presented for public comment a proposed revision to Mailing Standards of the United States Postal Service, Domestic Mail Manual (DMM®) to require the use of ancillary service endorsements on mailpieces containing certain types of checks mailed at Standard Mail postage rates. The proposed revision was intended to protect postal customers.

We received comments from the financial industry discussing a number of safeguards for customers that reduce the incidence of fraud and the misuse of information on these checks. We have concluded that the requirements in our proposal are unnecessary, and we withdraw our proposal.

Neva R. Watson,
Attorney, Legislative.

[FR Doc. 05-20563 Filed 10-13-05; 8:45 am]

BILLING CODE 7710-12-P